DEPARTMENT OF ENERGY

Federal Energy Regulatory Commission

Combined Notice of Filings #1

January 20, 2011.

Take notice that the Commission received the following exempt wholesale generator filings:

Docket Numbers: EG11-47-000.

Applicants: Mountain View Power Partners IV, LLC.

Description: Notice of Self-Certification as an Exempt Wholesale Generator of Mountain View Power Partners IV, LLC.

Filed Date: 01/20/2011.

Accession Number: 20110120-5059.

Comment Date: 5 p.m. Eastern Time on Thursday, February 10, 2011.

Take notice that the Commission received the following electric rate filings:

Docket Numbers: ER10-2302-002.

Applicants: Public Service Company of New Mexico.

Description: Public Service Company of New Mexico submits tariff filing per 35: PNM MBR Compliance Filing to be effective 8/24/2010.

Filed Date: 01/10/2011.

Accession Number: 20110110-5003.

Comment Date: 5 p.m. Eastern Time on Monday, January 31, 2011.

Docket Numbers: ER10-2345-003.

Applicants: Woodland Pulp LLC.

Description: Woodland Pulp LLC submits tariff filing per 35: Market-Based Rate Tariff Compliance Filing to be effective 9/23/2010.

Filed Date: 01/10/2011.

Accession Number: 20110110-5001.

Comment Date: 5 p.m. Eastern Time on Monday, January 31, 2011.

Docket Numbers: ER11-2708-000.

Applicants: Geodyne Energy, LLC.

Description: Geodyne Energy, LLC submits tariff filing per 35.1: Geodyne Energy, LLC Baseline Filing to be effective 1/19/2011.

Filed Date: 01/19/2011.

Accession Number: 20110119-5144.

Comment Date: 5 p.m. Eastern Time on Wednesday, February 09, 2011.

Docket Numbers: ER11-2709-000.

Applicants: Public Service Company of New Mexico.

Description: Public Service Company of New Mexico submits Notice of Termination of two service agreements between PJM, US Departments of Energy, et al.

Filed Date: 01/19/2011.

Accession Number: 20110120-0201.

Comment Date: 5 p.m. Eastern Time on Wednesday, February 09, 2011.

Docket Numbers: ER11-2710-000.

Applicants: La Paloma Generating Company, LLC.

Description: La Paloma Generating Company, LLC submits tariff filing per 35: Compliance Filing to be effective 9/30/2010.

Filed Date: 01/20/2011.

Accession Number: 20110120-5036.

Comment Date: 5 p.m. Eastern Time on Thursday, February 10, 2011.

Docket Numbers: ER11-2711-000.

Applicants: Southwest Power Pool, Inc.

Description: Southwest Power Pool, Inc. submits tariff filing per 35.13(a)(2)(iii: 2152 Rio Blanco Wind Farm, LLC GIA to be effective 1/5/2011.

Filed Date: 01/20/2011.

Accession Number: 20110120-5064.

Comment Date: 5 p.m. Eastern Time on Thursday, February 10, 2011.

Docket Numbers: ER11-2712-000.

Applicants: PJM Interconnection, L.L.C.

Description: PJM Interconnection, L.L.C. submits tariff filing per 35.13(a)(2)(iii: WMPA No. 2720, Queue V4-001, Flemington Solar, LLC and JCPL to be effective 1/13/2011.

Filed Date: 01/20/2011.

Accession Number: 20110120-5066.

Comment Date: 5 p.m. Eastern Time on Thursday, February 10, 2011.

Docket Numbers: ER11-2713-000.

Applicants: Otter Tail Power Company.

Description: Otter Tail Power Company submits tariff filing per 35.13(a)(2)(iii: Bemidji-Grand Rapids Transmission Project Operation and Maintenance Agreement to be effective 12/1/2010.

Filed Date: 01/20/2011.

Accession Number: 20110120-5087.

Comment Date: 5 p.m. Eastern Time on Thursday, February 10, 2011.

Docket Numbers: ER11-2714-000.

Applicants: Otter Tail Power Company.

Description: Otter Tail Power Company submits tariff filing per 35.13(a)(2)(iii: Bemidji-Grand Rapids Transmission Project Construction Management Agreement to be effective 12/1/2010.

Filed Date: 01/20/2011.

Accession Number: 20110120-5105.

Comment Date: 5 p.m. Eastern Time on Thursday, February 10, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2011-2152 Filed 1-31-11; 8:45 am]

BILLING CODE 6717-01-P